DEPARTMENT OF THE INTERIOR

Fish and Wildlife Service

[FWS-R9-IA-2012-N076; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
54893A | Joseph Hand | 76 FR 65207; October 20, 2011 | November 21, 2011.
59085A | Glen Hudson | 76 FR 77006; December 9, 2011 | January 17, 2012.
59367A | Ronald Bain | 76 FR 77006; December 9, 2011 | January 17, 2012.
59496A | James Moses | 76 FR 77006; December 9, 2011 | January 17, 2012.
57362A | Leonard Voyles | 76 FR 77006; December 9, 2011 | January 18, 2012.
58509A | Paxton Motheral | 76 FR 77006; December 9, 2011 | January 18, 2012.
60798A | Terrance Wolosek | 76 FR 80384; December 23, 2011 | January 31, 2012.
30686A | Donald Hotter | 77 FR 2314; January 17, 2012 | February 27, 2012.
52937A | Carlos Fernandez | 76 FR 61733; October 5, 2011 | March 7, 2012.
61192A | Jaqueline Seeno | 77 FR 6139; February 7, 2012 | March 8, 2012.
50819A | Zoological Society of San Diego | 76 FR 77006; December 9, 2011 | March 12, 2012.
63627A | Paul Monsen | 77 FR 6139; February 7, 2012 | March 12, 2012.
61274A | Stanley Coman | 77 FR 2314; January 17, 2012 | March 12, 2012.
57466A | Metro Richmond Zoo | 77 FR 3493: January 24, 2012 | March 15, 2012.
694126 | National Institutes of Health | 76 FR 80384; December 23, 2011 | March 15, 2012.
65030A | Robin Thigpen | 77 FR 6816; February 9, 2012 | March 21, 2012.
63679A | Frank Metzger | 77 FR 6139; February 7, 2012 | March 21, 2012.
59019A | David Marovitz, University of Michigan | 76 FR 78308; December 16, 2011 | March 21, 2012.
59290A | Theodore Papenfuss, University of California | 76 FR 78308; December 16, 2011 | March 21, 2012.
56964A | Jeremy Searle, Cornell University | 77 FR 3493; January 24, 2012 | March 22, 2012.

Marine Mammals
Permit No. | Applicant | Receipt of application Federal Register notice | Permit issuance date
42872A | University of Florida, College of Veterinary Medicine | 76 FR 44352; July 25, 2011 | 03/19/2012.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2012-7669 Filed 3-29-12; 8:45 am]

BILLING CODE 4310-55-P